DEPARTMENT OF HOUSING AND URBAN DEVELOPMENT

[Docket No. FR-5613-N-01]

Privacy Act of 1974; Amendment to an Existing System of Records, Inventory Management System Also Known as the Public and Indian Housing Information Center

AGENCY: Office of the Chief Information Officer, HUD.

ACTION: Notification of an amendment to an existing Privacy Act System of Records, Inventory Management System (IMS), also known as the Public and Indian Housing (PIH) Information Center (PIC), HUD/PIH.01.

SUMMARY: HUD is amending HUD/PIH.01 to reflect changes in the following sections, which involve participants and PIH program administrators of the Public Housing, Section 8 Certificate, Section 8 Tenant-Based Assistance (Housing Choice Voucher (HCV)), Section 8 Project-Based, and Section 8 Moderate Rehabilitation programs: Categories of Individuals Covered by the System, Categories of Records in the System, Purposes of the System, and Routine Uses of Records Maintained in the System, including Categories of Users and purposes of such use. These sections are revised to reflect the present status of the information contained in the system. The existing scope, objectives, and business processes in place for this program remain unchanged. A more detailed description of the present system is contained in this notice. This notice supersedes the previously published notice on October 6, 2008, at 73 FR 58256.

DATES: Effective Date: This proposal shall become effective, without further notice, May 14, 2012, unless comments are received during or before this period which would result in a contrary determination.

Comments Due Date: May 14, 2012.

ADDRESSES: Interested persons are invited to submit comments regarding this notice to the Rules Docket Clerk, Office of General Counsel, Department of Housing and Urban Development, 451 Seventh Street SW., Room 10276, Washington, DC 20410-3000. Communications should refer to the above docket number and title. FAX comments are not acceptable. A copy of each communication submitted will be available for public inspection and copying between 8 a.m. and 5 p.m. weekdays at the above address.

FOR FURTHER INFORMATION CONTACT: Inquiries pertaining to Privacy Act records: contact Harold Williams, Acting Chief Privacy Officer, telephone number (202) 402-8087, 451 Seventh Street SW. Room Number 4156, Washington, DC 20410. Regarding program-related inquiries: contact Nicole Faison, Program Advisor, telephone number (202) 475-7963, Washington, DC 20410, for the Office of Public and Indian Housing (PIH). [The above telephone numbers are not toll free numbers.] A telecommunications device for hearing and speech-impaired persons (TTY) is available by calling the Federal Information Relay Service's toll-free telephone number (800) 877-8339.

SUPPLEMENTARY INFORMATION: HUD intends to modify an existing Privacy Act system of records notice to create a new routine use exception to permit information sharing with the U.S. Department of Veterans Affairs for the purpose of advancing the goals of the nation's federal strategic plan to prevent and end homelessness among veterans through the collection, analysis, and reporting of quality and timely data on homelessness. Pursuant to the Privacy Act of 1974, as amended (5 U.S.C. 552a(e)(4)(11), the system report was submitted to the Office of Management and Budget (OMB), the Senate Committee on Homeland Security and Governmental Affairs, and the House Committee on Government Reform pursuant to Paragraph 4c of Appendix l to OMB Circular No. A-130, “Federal Agencies Responsibilities for Maintaining Records About Individuals,” July 25, 1994 (59 FR 37914). This notice supersedes the previously published notice on October 6, 2008 at 73 FR 58256.

Authority: 5 U.S.C. 552a; 88 Stat. 1896; 42 U.S.C. 3535(d).

Dated: April 5, 2012.
Kevin R. Cooke,
Deputy Chief Information Officer.

HUD/PIH.01

SYSTEM NAME:

Inventory Management System (IMS), also known as the Public and Indian Housing (PIH) Information Center (PIC), HUD/PIH.01. Note: This system was previously enumerated as HUD/PIH-4. With the publication of this notice, HUD will now reference the system number of HUD/PIH.01 to IMS/PIC.

SYSTEM LOCATIONS:

The files are maintained at the following locations: U.S. Department of Housing and Urban Development, 451 Seventh Street, SW., Washington, DC 20410; and IMS/PIC servers are located in Charleston, WV; and are accessed through the Internet. The servers are maintained by HUD Information Technology Services (HITS) contractor, and HUD's information technology partners: Electronic Data Services (EDS) and Lockheed Martin.

AUTHORITY FOR MAINTENANCE OF THE SYSTEM:

The U.S. Housing Act of 1937, as amended, 42 U.S.C. 1437; Title VI of the Civil Rights Act of 1962 (42 U.S.C. 2000d); The Fair Housing Act (42 U.S.C. 3601-3619); The Housing Community Development Act of 1981, Public Law 97-35, 85 stat., 348,408; and The Housing and Community Development Act of 1987, 42 U.S.C. 3543.

PURPOSES:

IMS/PIC serves as a national repository of information related to Public Housing Authorities (PHAs), HUD-assisted families, HUD-assisted properties for the purpose of monitoring and evaluating the effectiveness of PIH rental housing assistance programs. IMS/PIC allows PHAs and PHA-hired management agents to electronically submit information to HUD that is related to the administration of HUD's PIH programs. It collects data for PIH operations, including data submitted via the Internet from HUD's field offices, and accurately tracks activities and processes. IMS/PIC also helps to increase sharing of information throughout PIH and HUD, which improves staff awareness of activities related to the administration of HUD-subsidized housing programs. IMS/PIC is a flexible, scalable, internet-based integrated system, which enables PHA users and HUD personnel to access a common database of PHA information via their web browser. IMS/PIC aids HUD and entities that administer HUD's assisted housing programs in: (a) Increasing the effective distribution of rental assistance to individuals that meet the requirements of federal rental assistance programs; (b) detecting abuses in assisted housing programs; (c) taking administrative or legal actions to resolve past and current abuses of assisted housing programs; (d) monitoring compliance with HUD program requirements (e) deterring abuses by verifying the employment and income of tenants at the time of annual and interim reexaminations of family income and composition via the PIH Enterprise Income Verification (EIV) system; (f) evaluating program effectiveness; (g) improving PHA IMS/PIC reporting rate; (h) forecasting budgets; (i) controlling funds; (j) updating tenant information; and (k) updating building and unit data.

CATEGORIES OF INDIVIDUALS COVERED BY THE SYSTEM:

Families residing in a HUD-assisted property and/or receiving rental housing assistance via programs administered by the Department of Housing and Urban Development, Public Housing Agencies (PHAs) and PHA-hired management agents.

CATEGORIES OF RECORDS IN THE SYSTEM:

Records consist of the following information as reported to HUD by PHAs and PHA-hired management agents:

1. PHA information: agency name, HUD-assigned PHA Code, HUD program type family participates in; project number, building number, building entrance number, and unit number (applicable to only the Public Housing program).

2. PHA point of contact information for individuals that work for, and access IMS/PIC and oversee the PHA's administration (i.e. Mayors, board members, managers, directors, etc.: individual's name, agency's physical address, agency's mailing address, agency's telephone numbers, email addresses for point of contacts.

3. Action information: type of action (new admission, annual reexamination, interim reexamination, portability move-in, portability move-out, end of participation, other change of unit, FSS/WTW addendum only, annual reexamination searching (Section 8 program only), issuance of voucher (Section 8 program only), expiration of voucher (Section 8 program only), flat rent annual updated (Public Housing program only), annual HQS inspection (Section 8 program only), historical adjustment, and void); effective date of action, indication of correction of previous submitted information, type of correction, date family was admitted into a PIH rental assistance program, projected effective date of next reexamination of family income and/or composition, projected date of next flat rent annual updated (applicable only to the Public Housing program), indication of whether or not the family is or has participated in the Family Self-sufficiency (FSS) program within the last year, identification of special Section 8 program (applicable only to the Section 8 program), identification of other special HUD rental program(s) the family is participating in, and “PHA Use Only” fields which are used by PHAs for general administrative purposes or other uses as prescribed by HUD.

4. Family composition (which includes the following personally identifiable information) as reported by the family and verified by PHAs and PHA-hired management agents: Last name, first name, middle initial, date of birth, age on effective date of action, sex, relationship to head of household, citizenship status, disability status, race, ethnicity, social security number, alien registration number, compliance with community service or self-sufficiency requirement for public housing tenants, total number of household members, family subsidy status under the noncitizens rule, eligibility effective date, and former head of household's social security number.

5. Geographical and unit information:

a. Background at admission information as reported by the family: date family entered the waiting list, zip code before admission, whether or not the family was homeless at time of admission, whether or not the family qualifies for admission over the very low-income limit, whether or not the family is continuously assisted under the 1937 Housing Act, whether or not there is a HUD-approved income targeting disregard.

b. Subsidized Unit information: unit number and street address, city, state and zip code in which the subsidized unit is located, whether or not the family's mailing address is the same address of the unit to be occupied by the family, family's mailing address (unit number and street address, city, state, and zip code) if different from the address of the subsidized unit, number of bedrooms, whether or not the unit is an accessible unit (applicable to the Public Housing program only), whether or not the family has requested accessibility features (applicable to the Public Housing program only), whether or not the family has received the requested accessibility features (applicable to the Public Housing program only), date the unit last passed Housing Quality Standards (HQS) inspection (applicable to the Section 8 program only, except Homeownership and Project-Based Vouchers programs), date of last annual HQS inspection (applicable to the Section 8 program only, except Homeownership and Project-Based Vouchers programs), year the unit was built (applicable to the Section 8 program only), and the structure type of the unit (applicable to the Section 8 program only).

6. Family assets information, as reported by the family and verified by PHAs and PHA-hired management agents, which includes the type of asset, cash value of the asset, anticipated annual income derived from the asset, passbook rate, imputed asset income, and final asset income.

7. Family income information, as reported by the family and verified by PHAs and PHA-hired management agents, which includes the income source, PHA income calculations, annual income derived from the income source, income exclusion amount in accordance with HUD program requirements and annual income amount after deducting allowable income exclusion for each household member of the family, total household annual income, amounts of permissible deductions and other deductions to annual income in accordance with HUD program requirements, and amount of family adjusted annual income.

8. Total tenant payment (TTP), minimum rent amount, most recent TTP amount, and tenant rent calculation information in accordance with HUD requirements for the specific PIH rental assistance program the family is currently participating in.

9. Family Self-Sufficiency (FSS) and Welfare-to-Work (WTW) program information: type of self-sufficiency program the family is participating in, FSS report category, FSS effective date, PHA code of PHA administering FSS contract, WTW report category, WTW effective date of action, PHA code of PHA that issued the WTW voucher, PHA code of PHA counting the family as enrolled in its WTW voucher program if different than the PHA Code of PHA that issued the WTW voucher; and general information pertaining to the employment status of the head of household, date current employment began, type of employment benefits head of household receives from employer, number of years of school completed by the head of household, type of other federal assistance received by the family, number of children receiving childcare services, and optional information related to the type of family services the family needs, whether or not the need was met during participation in the FSS or WTW program, and the name of the service provider; FSS contract, account and exit information; and WTW voucher program information.

10. PHA IMS/PIC system user's information: Name, telephone number, fax number, email address, mailing address, agency Web site address.

ROUTINE USES OF RECORDS MAINTAINED IN THE SYSTEM, INCLUDING CATEGORIES OF USERS AND PURPOSES OF SUCH USES:

In addition to those disclosures generally permitted pursuant to 5 U.S.C. 552a(b) of the Privacy Act, other routine uses include: Categories of users and routine uses of information contained in IMS/PIC may include:

1. To a Congressional office from the record of an individual in response to an inquiry from that Congressional office made at the request of the individual to whom the records pertain;

2. To the National Archives and Records Administration (NARA) for use in its records management inspections and its role as an Archivist;

3. To the Department of Justice (DOJ) when seeking legal advice or for use in any proceeding, or in preparation for any proceeding, when HUD or any component thereof disclose information to DOJ during the course of an investigation to the extent necessary to obtain information pertinent to the investigation under applicable HUD administered rental housing assistance programs;

4. To third parties during the course of law enforcement investigation to the extent necessary to obtain information pertinent to the investigation;

5. To GEO Coding Service Center system to obtain GEO coding for all HUD-subsidized units;

6. To any federal, state, and local agency pursuant to an approved computer matching agreement (e.g., state agencies administering the state's unemployment compensation laws, state welfare and food stamp agencies, U.S. Department of Health and Human Services, and U.S. Social Security Administration): To verify the accuracy and completeness of the data provided, to verify eligibility or continued eligibility in HUD's rental assistance programs, to identify and recover improper payments in accordance with the Improper Payments Elimination and Recovery Act of 2010 (Pub. L. 111-204, 31 U.S.C. 3301 note and 31 U.S.C. 3321 note), and to aid in the identification of tenant errors, fraud, and abuse in assisted housing programs through HUD's tenant income computer matching programs in accordance with the Federal Privacy Act and Computer Matching and Privacy Protection Act;

7. To individuals under contract to HUD or under contract to another agency with funds provided by HUD: For the preparation of studies and statistical reports directly related to the management of HUD's rental assistance programs, to support quality control for tenant eligibility efforts requiring a random sampling of tenant files to determine the extent of administrative errors in making rent calculations, eligibility determinations, etc., and for processing re-examinations (individuals provided information under this routine use is subject to Privacy Act requirements and limitation on disclosures as are applicable to HUD officials and employees);

8. To PHAs and PHA-hired management agents, and auditors of HUD rental housing assistance programs: To verify the accuracy and completeness of tenant data used in determining eligibility and continued eligibility and the amount of housing assistance received;

9. To PHAs and PHA-hired management agents of HUD rental housing assistance programs: To identify and resolve discrepancies in tenant data;

10. To researchers affiliated with academic institutions, with not-for-profit organizations, or with federal, state or local governments, or to policy researchers: Without personally identifiable information: For the performance of research and statistical activities on housing and community development issues (individuals provided information under this routine use is subject to Privacy Act requirements and limitation on disclosures as are applicable to HUD officials and employees);

11. To HUD contractors, independent public auditors and accountants, and PHAs: For the purpose of conducting oversight and monitoring of program operations to determine compliance with applicable laws and regulations, and financial reporting requirements (individuals provided information under this routine use is subject to Privacy Act requirements and limitation on disclosures as are applicable to HUD officials and employees);

12. To the U.S. Department of Veterans Affairs (VA) for statistical analysis to advance the goals of the nation's federal strategic plan to prevent and end homelessness through the collection, analysis, and reporting of quality and timely data on veterans homelessness to assist VA with the establishment and/or verification of the following: Reducing homelessness among our nation's veterans; identify and understand the needs of homeless veterans and to develop programs and services to address those needs; effective administration of the HUD-Veterans Affairs Supportive Housing (VASH) program by HUD and VA business partners; HUD-VASH program monitoring and evaluation; and the production of aggregate statistical data without any personal identifiers, which will not be used to make decisions concerning the rights, benefits, or privileges of specific individuals, or providers of services with respect to assistance provided under the HUD-VASH program;

13. To the U.S. Department of Veterans Affairs (VA), under approved computer matching agreement, or data sharing agreement pursuant to a Presidential Executive Order (EO) mandate and in accordance with the Federal Privacy Act and Computer Matching and Privacy Protection Act: To identify and recover overpayments (improper payments) of rental assistance, determine compliance with program requirements by program administrators and participants of HUD rental housing assistance programs, deter future abuses in rental housing assistance programs, reduce administrative costs associated with manual program evaluation and monitoring efforts, and ensure that only eligible participants receive rental assistance in the correct amount;

14. To the Federal Emergency Management Agency (FEMA), under an approved computer matching agreement, or data sharing agreement pursuant to a Presidential EO mandate in accordance with the Federal Privacy Act and Computer Matching and Privacy Protection Act: To identify existing families which participate in a HUD rental assistance program and are currently receiving housing assistance;

15. To any Federal agency pursuant to statutory or regulatory authority in accordance with the provisions of the U.S. Federal Privacy Act (5 U.S.C. 552a) and Computer Matching and Privacy Protection Act; and

16. To appropriate agencies, entities, and persons when: (a) HUD suspects or has confirmed that the security or confidentiality of information in a system of records has been compromised; (b) HUD has determined that as a result of the suspected or confirmed compromise there is a risk of harm to economic or property interests, identity theft or fraud, or harm to the security or integrity of systems or programs (whether maintained by HUD or another agency or entity) that rely upon the compromised information; and (c) the disclosure made to such agencies, entities, and persons is reasonably necessary to assist in connection with HUD's efforts to respond to the suspected or confirmed compromise and prevent, minimize, or remedy such harm for purposes of facilitating responses and remediation efforts in the event of a data breach.

POLICIES FOR STORING, RETRIEVING, AND DISPOSING OF SYSTEM RECORDS

STORAGE:

Records are stored manually and electronically in PHA office automation equipment and paper files, respectively. Records are stored on HUD computer servers for HUD and PHA staff to access via the Internet. HUD's information technology partners, Electronic Data Services (EDS) and Lockheed Martin maintain disk and backup files of IMS/PIC data.

RETRIEVABILITY:

Tenant records may be retrieved by computer search of indices by the Head of Household's or household member's name, date of birth, and/or SSN of an existing or form HUD program participant. PHA records may be retrieved by PHA Code, User ID, and/or IMS/PIC user's last name. Note: A user's search capability is limited to only those program participants within the user's jurisdiction and assigned to his or her User ID.

SAFEGUARDS:

Records are maintained at the U.S. Department of Housing and Urban Development in Washington, DC with limited access to those persons whose official duties require the use of such records. Computer files and printed listings are maintained in locked cabinets. Background screening, limited authorization and access with access limited to authorize personnel and authorize users. User's access, updates access, read-only access, and approval access based on the user's role and security access level.

RETENTION AND DISPOSAL:

Electronic records are maintained and destroyed in accordance with requirements of the HUD Records Disposition Schedule, 2225-6. In accordance with 24 CFR 908.101 and HUD record retention requirements at 24 CFR 85.42, PHAs are required to retain at least three years' worth of IMS/PIC data either electronically or in paper form.

SYSTEM MANAGERS AND ADDRESSES:

Office of Public and Indian Housing (PIH), Real Estate Assessment Center (REAC) Nicole Faison, IMS/PIC System Business Owner. Department of Housing and Urban Development, 451 Seventh Street SW., Room PCFL1, Washington, DC 20410; Eugene Chen, PIC/IMS System Project Manager, Department of Housing and Urban Development, 451 Seventh Street SW., Room PCFL2, Washington, DC 20410.

NOTIFICATION AND RECORD ACCESS PROCEDURES:

Individuals seeking to determine whether this system of records contains information about them, or those seeking access to such records, should address inquiries to Harold Williams, Acting Chief Privacy Officer, Department of Housing and Urban Development, 451 Seventh Street SW., Room 4156, Washington, DC 20410. Provide verification of your identity by providing two proofs of identification. Your verification of identity must include your original signature and must be notarized.

CONTESTING RECORD PROCEDURES:

Since tenant information reported in IMS/PIC is submitted to HUD by PHAs based on information collected directly from the individual, tenants must contact the PHA to request correction of any tenant-supplied information reported incorrectly by the PHA. HUD does not have the ability to modify PHA-reported data within IMS/PIC. With respect to any HUD determination based on IMS/PIC data, the procedures for appealing HUD's initial determination records are outlined in 24 CFR part 16. If additional information is needed, contact:

(i) Contesting content of records: The Acting Chief Privacy Officer, Department of Housing and Urban Development, 451 Seventh Street SW., Room 4156, Washington, DC 20410, if contesting the content of records; or

(ii) Appeals of initial HUD determinations: The Departmental Privacy Appeals Office, Office of General Counsel, Department of Housing and Urban Development, 451 Seventh Street SW., Washington, DC 20410 for appeals of initial denials.

RECORD SOURCE CATEGORIES:

IMS/PIC receives data from HUD staff, HUD contractors, PHAs, PHA-hired management agents, the Social Security Administration, the Department of Veteran Affairs, the Federal Emergency Management Agency, other federal, state and local agencies. The IMS/PIC data reported by PHAs and PHA-hired management agents is electronically transmitted to IMS/PIC using PHA-owned software or via HUD's Family Reporting Software (FRS).

EXEMPTIONS FROM CERTAIN PROVISIONS OF THE ACT:

None.

[FR Doc. 2012-8968 Filed 4-12-12; 8:45 am]

BILLING CODE 4210-67-P